DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 78 FR 70049-70057, dated November 22, 2013) is amended to reflect the reorganization of the Center for Global Health, Centers for Disease Control and Prevention.

Section C-B, Organization and Functions, is hereby amended as follows:

Delete in its entirety the mission and function statements for the Center for Global Health (CW) and insert the following:

Center for Global Health (CW): (1) Leads the coordination and execution of the Centers for Disease Control and Prevention's (CDC) global health strategy; (2) works in partnership to assist ministries of health to build capacity, maximize public health impact and promote country ownership and sustainability; (3) achieves U.S. government and international organization goals to improve health, including disease eradication and elimination targets; (4) strengthens CDC's global health programs that focus on the leading causes of mortality, morbidity and disability, including chronic disease and injuries; (5) generates and applies new knowledge to achieve health goals; and (6) strengthens health systems and their impact.

Office of the Director (CWA): (1) Provides strategic direction and guidance on the execution of CDC's global health strategy, including decision-making, policy development and program planning and evaluation; (2) leads divisions in implementing public health programs and ensures the impact and effectiveness of administration initiatives, Congressionally-mandated programs and other public health programs; (3) serves as the lead for coordination of CDC global programs and cross-cutting areas of global public health; (4) harmonizes CDC global health priorities with host country priorities and works with ministries of health to improve essential public health functions, maximize positive health outcomes and promote country ownership and sustainability; (5) provides leadership and direction to all CDC country directors in their role as a senior CDC representative with the U.S. Embassy and ministry of health and in implementing CDC's global health strategy in country; (6) measures the performance of CDC's global health programs in terms of public health impact and fiscal accountability; (7) provides scientific leadership in developing and implementing evidence-based public health interventions and promotes best scientific practice; (8) facilitates the conduct and maintenance of ethical and high quality, scientific investigations by implementing regulatory requirements, monitoring human subjects compliance and clearing scientific products; (9) harmonizes CDC's global laboratory activities to strengthen laboratory capacity globally; (10) promotes the introduction of innovative technologies and approaches to improve the diagnostic and screening capability of programs to better detect and respond to emerging pathogens; (11) provides leadership to promote growth and improvement of CDC global health programs; (12) works with divisions to strengthen surveillance systems to analyze, measure and evaluate the global burden and distribution of disease; (13) promotes scientific innovation and advances in global health surveillance, epidemiology, monitoring and evaluation, and informatics; (14) provides leadership and coordination for CDC's global health security programs, policy and partnerships; (15) provides leadership on issues management, budget formulation and performance integration and country-specific issues through triaging to programs; (16) coordinates prioritization and planning for visits of high level officials to CDC and other strategic engagements; (17) participates in defining, developing, shaping and implementing U.S. global health policy and actions; (18) manages inter-governmental and external affairs and cultivates strategic partnerships; (19) plans and executes CDC's global health communications strategy and public affairs media response/outreach; (20) provides oversight, guidance and accountability for all operations functions, human resources, workforce management, budget formulation and distribution, extramural reviews and processing, internal and domestic travel and property management responsibilities of the Center for Global Health (CGH); (21) develops and maintains an effective global health workforce for CDC through strategic and innovative personnel solutions, policies and training initiatives, while demonstrating accountability for personnel resources and results of human capital investment; (22) provides leadership and guidance on informatics, information technology systems implementation, security, governance and planning for CGH and CDC country offices; and (23) develops standardized management processes and solutions for CDC country offices.

Delete in its entirety the mission and function statements for the Division of Public Health Systems and Workforce Development (CWF) and the Division of Global Disease Detection and Emergency Response (CWJ).

After the mission and function statement for the Global Immunization Division (CWK), insert the following:

Division of Global Health Protection (CWL): (1) Provides country-based and international coordination for disease detection, International Health Regulations (IHR) implementation and public health emergency response; (2) leads the agency's efforts to address the public health emergency continuum from prevention, to detection, to response and finally through post-emergency health systems recovery; (3) provides epidemic intelligence and response capacity for early warning about international disease threats and coordinates with partners throughout the U.S. government as well as international partners to provide rapid response; (4) provides resources and assists in developing country-level epidemiology, laboratory and other capacity to ensure country emergency preparedness and response to outbreaks and incidents of local importance as well as international importance; (5) in coordination and communication with other CDC Centers, Institute, or Offices (CI0s), leads CDC activities on global Non-Communicable Disease; and (6) collaborates with other divisions in CDC, federal agencies, international agencies, partner countries and non-governmental organizations assisting ministries of health to build public health capacity for addressing communicable diseases and Non-Communicable Diseases (NCDs).

Office of the Director (CWL1): (1) Provides leadership, management and oversight for all division activities; (2) develops the division's overall strategy and division policies on planning, evaluation, management and operations; (3) coordinates with CGH and the Office of the Chief Financial Officer on budget and spending; (4) ensures that CGH strategies are executed by the division and aligned with overall CDC goals; (5) ensures that division activities in the field are well coordinated with the CDC country office and support a “one-CDC” approach at the country level; (6) ensures scientific quality, ethics and regulatory compliance; (7) evaluates strategies, focus and prioritization of branch research, program and budget activities; (8) coordinates division policy and communication activities including liaise with other CDC policy and communications offices and those of our partner agencies; (9) develops and promotes partnerships with both national and international organizations, including other U.S. government agencies, in support of division activities; (10) serves as a liaison and coordinates with other CDC offices engaged in global activities in communicable diseases and NCDs; (11) leads CDC NCD strategic planning and prioritization and coordinates planning and communication with external stakeholders around global NCDs; (12) provides technical assistance, subject matter expertise and engages in program development and implementation of select cross-cutting or priority global NCD project areas; (13) provides CDC leadership on the development of National Public Health Institutes (NPHI); (14) ensures coordination of division's overall activities with subject matter experts (SME) across CDC; and (15) fosters an integrated and collaborative approach to research, program and policy activities.

Emergency Response and Recovery Branch (CWLB): (1) Coordinates, supervises and monitors CDC's work in international emergency settings and in refugee or displaced populations in collaboration with other U.S. government agencies (Office of Foreign Disaster Assistance and Department of State), United Nations agencies and nongovernmental organizations; (2) provides direct technical assistance to refugees, internally displaced persons and emergency-affected populations in the field, focusing on rapid health and nutrition assessments, public health surveillance, assessment of public health threats and prioritization of public health interventions, epidemic investigations, communicable disease prevention and control and supports program implementation and program evaluation; (3) develops and implements operational research projects aimed at developing the most effective public health interventions for populations in emergency settings; (4) plans, implements, and evaluates training courses and workshops to help strengthen CDC technical capacity in emergency and post-emergency public health, as well as that of other U.S. government agencies, international, non-governmental, other organizations and schools of public health; (5) develops technical guidelines on public health issues associated with international complex humanitarian emergencies; (6) serves as the CDC liaison to maintain strong working relationships with other international, bilateral and non-governmental relief organizations involved with humanitarian emergencies; (7) supports CDC's post-earthquake health systems reconstruction work in Haiti to help achieve agency objectives in Haiti and Haiti's public health legacy goals; (8) systematically applies the agency's skill set and lessons learned from Haiti and elsewhere to aid in health systems recovery after acute or protracted emergencies; and (9) leads CGH's global water, sanitation and hygiene programs.

Field Epidemiology Training Program Branch (CWLC): (1) Leads the agency in partnering with ministries of health to determine manpower needs for capacity in surveillance, epidemiology and response and to develop strategies to address those needs; (2) designs, implements and evaluates short-course training and long-term career development programs in field epidemiology and related disciplines for district, regional and national health agencies; (3) plans, implements, coordinates, supports and evaluates the Field Epidemiology Training Programs (FETPs) in partnership with ministries of health and CDC country offices; (4) provides consultation and promotes training in the development, analysis, evaluation, improvement and use of surveillance systems to provide data for evidence-based decision-making in health; (5) implements and coordinates the training and capacity building needs for specific programs such as high-impact diseases (HIV, TB, malaria), NCDs, one health and laboratory capacity building in partnership with ministries of health; (6) develops and promotes the use of competency-based training materials in field epidemiology for use by FETPs and other partners, CDC, academic programs and others; (7) maintains a training material library and Web site while utilizing innovative technologies to support training, investigation, surveillance and response activities; (8) sustains international, regional and global networks of FETP programs and graduates; (9) supports partner ministries of health's systems strengthening efforts through provision of technical assistance, including facilitating provision of assistance from relevant subject matter expert programs across the agency; (10) plans, directs, supports, implements and coordinates public health leadership and management development and organizational excellence effort; (11) serves as the World Health Organization Collaborating Center for Global Public Health Workforce Development; and (12) conducts the Sustainable Management Development Program.

Global Disease Detection Branch (CWLD): (1) Provides program support, resources and technical assistance to the Global Disease Detection (GDD) Centers around the world; (2) in collaboration and coordination with CIO partners, supports and facilitates emerging infectious disease detection and response, pandemic influenza preparedness, zoonotic disease investigation, laboratory system strengthening and biosafety, global health security and training in field epidemiology through the GDD Centers; (3) leads and administers CDC's GDD program through coordination with relevant implementing programs across the agency; (4) provides leadership, guidance and technical assistance support and resources for global infectious disease surveillance, applied epidemiology and laboratory research and response to emerging infectious disease threats through the GDD Centers; (5) provides resources and assists in developing country-level epidemiologic, laboratory, human and other capacity within GDD Centers to ensure country emergency preparedness and response to outbreaks and incidents of local and international interests; (6) facilitates work throughout CDC with SMEs engaged and providing technical assistance to GDD Center activities; (7) collaborates with other divisions and CIOs to define and promote only good public health laboratory standards and practices; (8) develops and conducts training, in collaboration with SMEs and public and private sector laboratory organizations, to facilitate timely transfer of newly emerging laboratory technology and standards for laboratory practice; and (9) in collaboration with SMEs and with public and private sector laboratory organizations, provides technical assistance, consultation and training to GDD health centers and other international partners to develop and maintain international public health laboratories.

Global Health Security Branch (CWLE): (1) Serves as the WHO Collaborating Center for Implementation of National IHR Surveillance and Response Capacities; (2) provides leadership and coordination of CDC 's relationships with WHO for IHR international capacity development activities; (3) responsible for CDC's support to WHO's Integrated Disease Surveillance and Response (IDSR) strategy; (4) supports the implementation of IHR and IDSR at the country level; (5) assess, coordinates, implements and measures the effectiveness of international public health preparedness activities in partnership with WHO, ministries of health and United States Government (USG) security, development, and disaster response agencies in the context of IHR; (6) manages CDC's relationship and develops partnerships with U.S. government security (National Security Staff (NSS), Department of Defense, Department of State) and development agencies (USAID) engaged in global health security activities; (7) leads in the development and implementation of CDC's Global Health Strategic Goals for Global Health Security (GHS); (8) ensures CDC's activities supported by Interagency Global Health Security Partners align with CDC GHS goals and partner country public health preparedness priorities and meet CDC 'S high standard for quality and fiduciary responsibility; (9) serves as principal point of coordination for USG interagency partners involved in international disease surveillance and situational awareness activities; (10) ensures CDC's interests are represented at NSS GHS policy committees; (11) provides support, coordination and issues management services to HHS Office of Global Affairs (OGA) for U.S. government Global Health Security policy development activities; (12) provides early warning on disease threats via CDC's event based surveillance and other epidemic intelligence activities conducted in partnership with U.S. government agencies, WHO, ministries of health, other international, public health and security partners to assure compliance with IHR; (13) serves as CDC's lead for supporting and facilitating CDC's response to international outbreaks; (14) develops and implements in coordination with other CDC CIOs and U.S. government partners, information technology solutions for emergency preparedness information management, surveillance and executive decision support to enhance the effectiveness of public health emergency detection and response around the globe; and (15) coordinates international aspects of CDC's public health preparedness and emergency response activities in collaboration with the Office of Public Health Preparedness and Response, the National Center for Emerging and Zoonotic Infectious Diseases, the National Center for Environmental Health and other CDC organizational units involved in chemical, biological, radiological and nuclear hazard preparedness and emergency response activities.

Delete in its entirety the title and function statements for the Laboratory Systems Development Branch (CVLGG), Division of Preparedness and Emerging (CVLG), National Center for Emerging and Zoonotic Infectious Diseases (CVL).

Dated: November 26, 2013.
Sherri A. Berger,
Chief Operating Officer, Centers for Disease Control and Prevention.

[FR Doc. 2013-29056 Filed 12-5-13; 8:45 am]

BILLING CODE 4160-18-M